DEPARTMENT OF ENERGY

Western Area Power Administration

Pick-Sloan Missouri Basin Program—Eastern Division—Rate Order No. WAPA-148

AGENCY: Western Area Power Administration, DOE.

ACTION: Notice of Proposed Transmission Service Penalty Rate for Unreserved Use

SUMMARY: The Western Area Power Administration (Western) proposes to add a penalty rate for Unreserved Use of Transmission Service for the Pick-Sloan Missouri Basin Program—Eastern Division (P-SMBP—ED) in a new rate schedule, Rate Schedule UGP-TSP1. The new rate schedule for Unreserved Use of Transmission System Penalties, Rate Schedule UGP-TSP1, is proposed to go into effect on the later of January 1, 2010, or when Western's Open Access Transmission Tariff (OATT) is revised to provide for Unreserved Use Penalties. Prior to implementing the penalty rate, Western will post notice on its Open Access Same-Time Information System (OASIS) Web site. If Rate Schedule UGP-TSP1 is implemented, it will remain in effect through December 31, 2014, or until superseded. Western will prepare a brochure that provides detailed information on the proposed rate to all interested parties. Publication of this Federal Register notice begins the formal process for the proposed penalty rate.

DATES: The consultation and comment period begins today and will end September 24, 2009. Western will present a detailed explanation of the proposed rate at a public information forum. The public information forum date is July 28, 2009, 8 a.m. to 8:45 a.m. CDT, Sioux Falls, South Dakota. Western will accept oral and written comments at a public comment forum. The public comment forum date is July 28, 2009, and will be held in conjunction with the public comment forum for the adjustment of Western's transmission and ancillary services rates (as announced in 74 FR 26682 on June 3, 2009) from 9 a.m. to 12 p.m. CDT, Sioux Falls, South Dakota. Western will accept written comments any time during the consultation and comment period.

ADDRESSES: Written comments and/or requests to be informed of Federal Energy Regulatory Commission (FERC) actions concerning the rates submitted by Western to the FERC for approval should be sent to Robert J. Harris, Regional Manager, Upper Great Plains Region, Western Area Power Administration, 2900 4th Avenue North, Billings, MT 59101-1266, e-mail UGPISRate@wapa.gov. Western will post information about the rate process on its Web site at http://www.wapa.gov/ugp/rates/default.htm. Western will also post official comments received via letter and e-mail to its Web site after the close of the comment period. Western must receive written comments by the end of the consultation and comment period to ensure they are considered in Western's decision process. The public information forum location is the Holiday Inn, 100 West 8th Street, Sioux Falls, SD. The public comment forum location is the Holiday Inn, 100 West 8th Street, Sioux Falls, SD.

FOR FURTHER INFORMATION CONTACT: Ms. Linda Cady-Hoffman, Rates Manager, Upper Great Plains Region, Western Area Power Administration, 2900 4th Avenue North, Billings, MT 59101-1266, telephone (406) 247-7439, e-mail cady@wapa.gov.

SUPPLEMENTARY INFORMATION: The transmission facilities in the P-SMBP—ED are integrated with transmission facilities of Basin Electric Power Cooperative (Basin) and Heartland Consumers Power District (Heartland) such that transmission services are provided over an integrated transmission system, called the Integrated System (IS), and the rates are sometimes referred to as IS Rates. Western acts as the administrator of the IS and monitors service under the OATT.¹ As owners of the IS, Western, Basin, and Heartland may be referred to as IS Partners.

¹ Western's OATT was most recently approved by FERC on June 28, 2007, in Docket No. NJ07-2-000, 119 FERC ¶61,329 (2007) and the FERC's letter order issued on September 6, 2007, in Docket No. NJ07-2-001.

Proposed Penalty Rate for Unreserved Use of Transmission Service

Unreserved Use of Transmission Service is provided when a Transmission Customer uses transmission service that it has not reserved or uses transmission service in excess of its reserved capacity. A Transmission Customer that has not secured reserved capacity or exceeds its firm or non-firm reserved capacity at any point of receipt or any point of delivery will be assessed Unreserved Use Penalties.

The penalty charge for a Transmission Customer that engages in Unreserved Use is 200 percent of Western's approved transmission service rate for point-to-point transmission service assessed as follows:

(i) The Unreserved Use Penalty for a single hour of unreserved use will be based upon the rate for daily firm point-to-point service.

(ii) The Unreserved Use Penalty for more than one assessment for a given duration (e.g., daily) will increase to the next longest duration (e.g., weekly).

(iii) The Unreserved Use Penalty charge for multiple instances of unreserved use (for example, more than 1 hour) within a day will be based on the rate for daily firm point-to-point service. The penalty charge for multiple instances of unreserved use isolated to 1 calendar week would result in a penalty based on the charge for weekly firm point-to-point service. The penalty charge for multiple instances of unreserved use during more than 1 week during a calendar month is based on the charge for monthly firm point-to-point service.

A Transmission Customer that exceeds its firm reserved capacity at any Point of Receipt or Point of Delivery or an Eligible Customer that uses Transmission Service at a Point of Receipt or Point of Delivery that it has not reserved is required to pay for all Ancillary Services identified in Western's OATT that were provided by Western and associated with the unreserved service on the IS system. The Transmission Customer or Eligible Customer will pay for Ancillary Services based on the amount of transmission service it used, but did not reserve.

Unreserved Use Penalties collected over and above the base point-to-point transmission service charge will be credited against the IS Annual Transmission Revenue Requirement (ATRR). For example, if a Transmission Customer has unreserved use that results in a penalty equal to twice the rate for firm weekly point-to-point service, Western will retain an amount equal to the then current rate for firm weekly point-to-point service with the balance credited against the ATRR at the next rate recalculation.

Legal Authority

Western is proposing an Unreserved Use Penalty rate for the P-SMBP—ED in accordance with section 302 of the Department of Energy (DOE) Organization Act (42 U.S.C. 7152). This section transferred to and vested in the Secretary of Energy the power marketing functions of the Secretary of the Department of Interior and the Bureau of Reclamation under the Reclamation Act of 1902 (ch. 1093, 32 Stat. 388), as amended and supplemented by subsequent laws, particularly section 9(c) of the Reclamation Project Act of 1939 (43 U.S.C. 485h(c)); and section 5 of the Flood Control Act of 1944 (16 U.S.C. 825s); and other acts that specifically apply to the projects involved.

By Delegation Order No. 00-037.00, effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand, or to disapprove such rates to the FERC. Existing DOE procedures for public participation in power rate adjustments (10 CFR part 903) were published on September 18, 1985 (50 FR 37835).

After review of public comments, and possible amendments or adjustments, Western will recommend the Deputy Secretary of Energy approve the proposed rates on an interim basis.

Availability of Information

All brochures, studies, comments, letters, memorandums, or other documents that Western initiates or uses to develop the proposed rates are available for inspection and copying at the Upper Great Plains Regional Office, located at 2900 4th Avenue North, Billings, Montana. Many of these documents and supporting information are also available on its Web site under the “2009 Transmission and Ancillary Services Rate Adjustment Process” section located at http://www.wapa.gov/ugp/rates/default.htm.

Regulatory Procedure Requirements

Environmental Compliance

In compliance with the National Environmental Policy Act of 1969 (NEPA) (42 U.S.C. 4321-4347), Council on Environmental Quality Regulations (40 CFR parts 1500-1508), and DOE NEPA Regulations (10 CFR part 1021), Western is in the process of determining whether an environmental assessment or an environmental impact statement should be prepared or if this action can be categorically excluded from those requirements.

Determination Under Executive Order 12866

Western has an exemption from centralized regulatory review under Executive Order 12866; accordingly, no clearance of this notice by the Office of Management and Budget is required.

Dated: June 18, 2009.
Timothy J. Meeks,
Administrator.

[FR Doc. E9-15047 Filed 6-25-09; 8:45 am]

BILLING CODE 6450-01-P